DEPARTMENT OF DEFENSE

GENERAL SERVICES ADMINISTRATION

NATIONAL AERONAUTICS AND SPACE ADMINISTRATION

[OMB Control No. 9000-0066; Docket No. 2022-0053; Sequence No. 2]

Information Collection; Certain Federal Acquisition Regulation Part 22 Labor Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on an extension concerning certain Federal Acquisition Regulation (FAR) labor requirements. DoD, GSA, and NASA invite comments on: Whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through March 31, 2022. DoD, GSA, and NASA propose that OMB extend its approval for use for three additional years beyond the current expiration date.

DATES: DoD, GSA, and NASA will consider all comments received by March 14, 2022.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0066, Certain Federal Acquisition Regulation Part 22 Labor Requirements. Comments received generally will be posted without change to https://www.regulations.gov, including any personal and/or business confidential information provided. To confirm receipt of your comment(s), please check www.regulations.gov, approximately two to three days after submission to verify posting.

FOR FURTHER INFORMATION CONTACT: Jennifer Hawes, Procurement Analyst, at telephone 202-969-7386, or jennifer.hawes@gsa.gov.

SUPPLEMENTARY INFORMATION:

A. OMB Control Number, Title, and Any Associated Form(s)

9000-0066, Certain Federal Acquisition Regulation Part 22 Labor Requirements

B. Need and Uses

This clearance covers the information that offerors and contractors must submit to comply with the following FAR requirements:

• FAR 52.222-2, Payment for Overtime Premiums. This clause requires the contractor to request authorization for overtime premiums costs that exceed the amount negotiated in the contract. The request shall include information on the affected work unit current staffing and workload, how a denial of the request would impact performance on the instant contract or other contracts, and reasons why the work cannot be performed by using multishift operations or by employing additional personnel. Contracting officers uses this information to evaluate whether the overtime is necessary.

• FAR 52.222-6, Construction Wage Rate Requirements, and the Standard Form (SF) 1444. This clause requires the contractor to establish additional classifications, if any laborer or mechanic is to be employed in a classification that is not listed in the wage determination applicable to the contract. In such cases, the contractor is required to complete and submit an SF 1444, Request for Authorization of Additional Classification and Rate, along with other pertinent data, containing the proposed additional classification and minimum wage rate including any fringe benefits payments. The contracting officer submits the SF 1444 to the DOL Wage and Hour Division with a request for conformance review to determine the appropriateness of the request.

• FAR 52.222-11, Subcontracts (Labor Standards), and the SF 1413. This clause requires contractors to submit an SF 1413, Statement and Acknowledgment, for each subcontract for construction within the United States, including the subcontractor's signed and dated acknowledgment that the required labor clauses necessary to implement various labor statutes have been included in the subcontract. Contracting officers review the information on the form to ascertain whether contractors have included the required labor clauses in their subcontracts.

• FAR 52.222-18, Certification Regarding Knowledge of Child Labor for Listed End Products. This provision (and its commercial equivalent in the provision at 52.212-3) requires the offeror, as part of its annual representations and certifications, to either certify in paragraph (c)(1) that it will not supply an end product of a type identified on the Department of Labor (DOL) List of Products Requiring Contractor Certification as to Forced or Indentured Child Labor (https://www.dol.gov/agencies/ilab), or certify in paragraph (c)(2) that it has made a good faith effort to determine whether such child labor was used to mine, produce, or manufacture such end product, and is unaware of any such use of child labor. This information is used by Government to ensure that a good faith effort has been made to determine whether forced or indentured child labor was used to mine, produce, or manufacture any product on the List furnished under the contract.

• FAR 52.222-33, Notice of Requirement for Project Labor Agreement. When a project labor agreement (PLA) (a pre-hire collective bargaining agreement described in 29 U.S.C. 158(f)) is required for a large-scale construction contract, this provision requires the offeror to submit a copy of a PLA at the time offers are due, prior to award, or after contract award as determined by the agency. During the evaluation of offers on a construction contract, the contracting officer reviews the offeror's PLA to determine if it conforms with all statutes, regulations, and Executive Orders.

• FAR 52.222-34, Project Labor Agreement. When a PLA is required for a construction contract, this clause requires the contractor to maintain the PLA in a current state throughout the life of the contract. This recordkeeping requirement is necessary for the Government to ensure that the contractor stays a party to the PLA during the life of the construction contract.

• FAR 52.222-46, Evaluation of Compensation for Professional Employees. This provision requires offerors to submit for evaluation a total compensation plan setting forth proposed salaries and fringe benefits for professional employees working on the contract. The Government will use this information to determine if professional employees are compensated fairly and properly. Plans indicating unrealistically low professional employees' compensation may be assessed adversely as one of the factors considered in making a contract award.

C. Annual Burden

Respondents/Recordkeepers: 543,954.

Total Annual Responses: 619,350.

Total Burden Hours: 21,402 (21,231 reporting hours + 171 recordkeeping hours).

Obtaining Copies: Requesters may obtain a copy of the information collection documents from the GSA Regulatory Secretariat Division by calling 202-501-4755 or emailing GSARegSec@gsa.gov. Please cite OMB Control No. 9000-0066, Certain Federal Acquisition Regulation Part 22 Labor Requirements.

William F. Clark,
Director, Office of Governmentwide Acquisition Policy, Office of Acquisition Policy, Office of Governmentwide Policy.

[FR Doc. 2022-00341 Filed 1-10-22; 8:45 am]

BILLING CODE 6820-EP-P